DEPARTMENT OF COMMERCE

International Trade Administration

[C-570-911]

Circular Welded Carbon Quality Steel Pipe From the People's Republic of China: Continuation of Countervailing Duty Order

AGENCY: Enforcement and Compliance, Formerly Import Administration, International Trade Administration, Department of Commerce.

DATES: Effective Date: December 4, 2013.

SUMMARY: As a result of the determinations by the Department of Commerce (the Department) and the International Trade Commission (the ITC) that revocation of the countervailing duty (CVD) order on circular welded carbon quality steel pipe (circular welded pipe) from the People's Republic of China (PRC) would likely lead to continuation or recurrence of net countervailable subsidies and material injury to an industry in the United States, the Department is publishing this notice of continuation of the CVD order.

FOR FURTHER INFORMATION CONTACT: Austin Redington or Nancy Decker, AD/CVD Operations, Enforcement and Compliance, International Trade Administration, U.S. Department of Commerce, 14th Street and Constitution Avenue NW., Washington, DC 20230; telephone (202) 482-1664 or (202) 482-0196, respectively.

SUPPLEMENTARY INFORMATION:

Background

On June 3, 2013, the Department initiated the first sunset review of the CVD order on circular welded pipe from the PRC pursuant to section 751(c) of the Tariff Act of 1930, as amended (the Act).¹ As a result of its review, the Department found that revocation of the CVD order would likely lead to continuation or recurrence of net countervailable subsidies and notified the ITC of the subsidy rates likely to prevail should the order be revoked.² On November 22, 2013, the ITC published its determination, pursuant to section 751(c) of the Act, that revocation of the CVD order on circular welded pipe from the PRC would likely lead to continuation or recurrence of material injury to an industry in the United States within a reasonably foreseeable time.³

¹ See Initiation of Five-Year (“Sunset”) Review, 78 FR 33063 (June 3, 2013).

² See Circular Welded Carbon Quality Steel Pipe From the People's Republic of China: Final Results of the Expedited First Sunset Review of the Countervailing Duty Order, 78 FR 60849 (October 2, 2013).

³ See Circular Welded Carbon-Quality Steel Pipe from China, 78 FR 70069 (November 22, 2013)

Scope of the Order

The merchandise subject to the order is circular welded pipe. The pipe products that are the subject of this order are currently classifiable in Harmonized Tariff Schedule of the United States (HTSUS) statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the HTSUS classification, is dispositive of whether merchandise imported into the United States falls within the scope of the order.⁴

⁴ For full scope language, see Circular Welded Carbon Quality Steel Pipe From the People's Republic of China: Notice of Amended Final Affirmative Countervailing Duty Determination and Notice of Countervailing Duty Order, 73 FR 42545 (July 22, 2008).

Continuation of the Order

As a result of the determinations by the Department and the ITC that revocation of the CVD order would likely lead to continuation or recurrence of net countervailable subsidies and material injury to an industry in the United States, pursuant to section 751(d)(2) of the Act, the Department hereby orders the continuation of the CVD order on circular welded pipe from the PRC. U.S. Customs and Border Protection will continue to collect cash deposits at the rates in effect at the time of entry for all imports of subject merchandise. The effective date of continuation of this order will be the date of publication in the Federal Register of this notice of continuation. Pursuant to section 751(c)(2) of the Act, the Department intends to initiate the next five-year review of this order not later than 30 days prior to the fifth anniversary of the effective date of continuation.

This five-year sunset review and notice are in accordance with section 751(c) of the Act and published pursuant to section 777(i)(1) of the Act and 19 CFR 351.218(f)(4).

Dated: November 26, 2013.
Paul Piquado,
Assistant Secretary for Enforcement and Compliance.

[FR Doc. 2013-29027 Filed 12-3-13; 8:45 am]

BILLING CODE 3510-DS-P